ENVIRONMENTAL PROTECTION AGENCY

[ORD-2004-0019; FRL-7909-7]

Agency Information Collection Activities; Submission to OMB for Review and Approval; Comment Request; Health Effects of Environmental Exposures Among Children Living in the Detroit, MI Area, EPA ICR Number 2167.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. The ICR describes the nature of the information collection and its estimated burden and cost.

DATES: Additional comments may be submitted on or before June 9, 2005.

ADDRESSES: Submit your comments, referencing docket ID number ORD-2004-0019, to (1) EPA online using EDOCKET (our preferred method), by e-mail to oei.docket@epa.gov, or by mail to: EPA Docket Center, Environmental Protection Agency, Mail Code: 28221T, 1200 Pennsylvania Ave., NW., Washington, DC 20460, and (2) Mail your comments to OMB at: Office of Information and Regulatory Affairs, Office of Management and Budget (OMB), Attention: Desk Officer for EPA, 725 17th Street, NW., Washington, DC 20503.

FOR FURTHER INFORMATION CONTACT: Ann H. Williams, Office of Research and Development, Mail Code 58-C, Environmental Protection Agency, Research Triangle Park, NC 27711.

SUPPLEMENTARY INFORMATION: EPA has submitted the following ICR to OMB for review and approval according to the procedures prescribed in 5 CFR 1320.12. On December 7, 2004 (69 FR 70680), EPA sought comments on this ICR pursuant to 5 CFR 1320.8(d). EPA received no comments. EPA received and responded to one request for information.

EPA has established a public docket for this ICR under Docket ID No. ORD-2004-0019, which is available for public viewing at the Office of Research and Development Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Research and Development Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Title: Detroit Children's Health Study: Health Effects of Environmental Exposures among Children Living in the Detroit, Michigan Area.

Abstract: This epidemiologic study will be conducted by EPA's National Health and Environmental Effects Research Laboratory. This study will examine the role of long-term environmental exposures, particularly local sources of ambient air pollution, in children's respiratory health conditions such as allergies and asthma. The participation of parents and children in this collection of information is strictly voluntary.

Children's respiratory health will be assessed by a parent-completed questionnaire and by simple measures of the child's lung function and exhaled breath. The twenty-page questionnaire will be distributed to the parents of children enrolled in the fourth and fifth grades at selected public schools in Detroit and Dearborn. The questionnaire includes a request for permission for their child to participate in measurements of lung parameters. Later, at a subset of these schools, those children with parental consent will be asked to perform simple measurements of air flow rates, lung volumes, and exhaled nitric oxide. The schools will be selected based on school location with respect to major roadways and major emission point sources.

Children's long-term environmental exposures will be assessed based on a detailed lifetime residential history from the questionnaire, supplemental air quality measurements collected at a selected group of schools distributed throughout the school district, and an air quality model incorporating geographic information on local sources of air pollutants. Central site measurements of ambient air pollutants will be collected at the time of the lung function examinations.

The collected information will be used to estimate the epidemiologic associations between respiratory health conditions and long-term exposures to ambient air pollutants in the study community. The epidemiologic analysis will examine the association of air quality parameters with a higher prevalence of respiratory conditions, with lower lung function, or with higher levels of exhaled nitric oxide after appropriate control for other determinants of respiratory health.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is 0.4 hours per parent questionnaire and 0.75 hours per set of child respiratory health measures. This survey will not be repeated. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are school officials, parents and children in the Detroit and Dearborn Public Schools.

Estimated Number of Respondents: 18,500.

Frequency of Response: Once.

Estimated Total Annual Hour Burden: 8,250 hours.

Estimated Total Annual Cost: $113,468, includes $0 annualized capital or O&M costs and $113,468 in Labor costs.

Dated: May 3, 2005.
Oscar Morales,
Director, Collection Strategies Division.

[FR Doc. 05-9319 Filed 5-9-05; 8:45 am]

BILLING CODE 6560-50-P